DEPARTMENT OF TRANSPORTATION

Federal Aviation Administration

14 CFR Part 39

[Docket No. FAA-2009-0559; Directorate Identifier 2008-SW-66-AD]

RIN 2120-AA64

Airworthiness Directives; Sikorsky Aircraft Corporation (Sikorsky) Model S-92A Helicopters

AGENCY: Federal Aviation Administration, DOT.

ACTION: Notice of proposed rulemaking (NPRM).

SUMMARY: This document proposes adopting a new airworthiness directive (AD) for Sikorsky Model S-92A helicopters. The AD would require revising the Limitations section of the Rotorcraft Flight Manual (RFM) by clarifying that the Model S-92A helicopter was certificated as a transport category rotorcraft in both Categories A and B with different operating limitations for each category and must be operated accordingly. We have received reports that some operators are inappropriately operating Model S-92A helicopters using Category B limitations when the helicopter is configured with 10 or more passenger seats. Operating this helicopter when configured with 10 or more passenger seats and adhering to the less stringent limitations for the Category B configuration approved for a 9 or less passenger seat configuration does not maintain the FAA required minimum level of safety. This condition if not corrected, could result in operating under less stringent requirements.

DATES: Comments must be received on or before August 18, 2009.

ADDRESSES: Use one of the following addresses to submit comments on this proposed AD:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

FOR FURTHER INFORMATION CONTACT: John Coffey, Flight Test Engineer, Boston Aircraft Certification Office, 12 New England Executive Park, Burlington, MA 01803, telephone (781) 238-7161, fax (781) 238-7170.

SUPPLEMENTARY INFORMATION:

Comments Invited

We invite you to submit any written data, views, or arguments regarding this proposed AD. Send your comments to the address listed under the caption ADDRESSES. Include the docket number “FAA-2009-0559, Directorate Identifier 2008-SW-66-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact with FAA personnel concerning this proposed rulemaking. Using the search function of our docket Web site, you can find and read the comments to any of our dockets, including the name of the individual who sent or signed the comment. You may review the DOT's complete Privacy Act Statement in the Federal Register published on April 11, 2000.

Examining the Docket

You may examine the docket that contains the proposed AD, any comments, and other information in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

Discussion

This document proposes adopting a new AD for Sikorsky Model S-92A helicopters. The AD would require revising the Limitations section of the RFM by clarifying that the Model S-92A helicopter was certificated as a transport category rotorcraft in both Categories A and B with different operating limitations for each category and must be operated accordingly. The Model S-92A helicopter was certificated to Category A requirements on December 17, 2002, and certificated to Category B requirements on May 7, 2004. When the Model S-92A is configured with 10 or more passenger seats, it is a Category A rotorcraft, and operators must follow the limitations for Category A. When it is configured with 9 or less passenger seats, it may be considered a Category B rotorcraft, and operators may follow the less stringent Category B limitations. The current limitation language in the RFM does not make a clear distinction between Categories A and B based on the seating configuration. We have received reports that some operators are inappropriately operating Model S-92A helicopters using Category B limitations when the helicopter is configured with 10 or more passenger seats. Operating this helicopter when configured with 10 or more passenger seats and adhering to the less stringent limitations for the Category B configuration approved for a 9 or less passenger seat configuration does not maintain the FAA required minimum level of safety. Therefore, we are proposing to change the Limitations section of the RFM to make it clear that this model helicopter is a Category A helicopter when configured with 10 or more passenger seats.

This unsafe condition is likely to exist or develop on other helicopters of the same type design. Therefore, the proposed AD would require revising the Limitations section of the RFM by replacing the wording in Part 1, Section 1, of the Operating Limitations under Types of Operation. Replace this wording: “Category `A' and `B', Day, Night, VFR and IFR, transport, with maximum seating for 19 passengers” with this wording: “Category `A' with a maximum of 19 passenger seats or Category `B' with 9 or less passenger seats; day, night, VFR and IFR.”

We estimate this proposed AD would affect about 65 helicopters of U.S. registry. Revising the RFM would result in minimal costs.

Regulatory Findings

We have determined that this proposed AD would not have federalism implications under Executive Order 13132. Additionally, this proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Sikorsky Aircraft Corporation: Docket No. FAA-2009-0559; Directorate Identifier 2008-SW-66-AD.

Applicability

Model S-92A helicopters, certificated in any category.

Compliance

Within the next 10 days, unless accomplished previously.

To prevent operating under less stringent requirements, do the following:

(a) Make the following pen and ink changes or insert a copy of this AD into the Limitations section of the Rotorcraft Flight Manual (RFM), Part 1, Section 1, of the Operating Limitations under Types of Operation:

Replace this wording:

“Category `A' and `B', Day, Night, VFR and IFR, transport, with maximum seating for 19 passengers”

With this wording:

“Category `A' with a maximum of 19 passenger seats or Category `B' with 9 or less passenger seats; Day, Night, VFR and IFR.”

(b) Making the change required by paragraph (a) of this AD is terminating action for the requirements of this AD.

(c) To request a different method of compliance or a different compliance time for this AD, follow the procedures in 14 CFR 39.19. Contact the Manager, Boston Aircraft Certification Office, FAA, ATTN: John Coffey, Flight Test Engineer, 12 New England Executive Park, Burlington, MA 01803, telephone (781) 238-7161, fax (781) 238-7170, for information about previously approved alternative methods of compliance.

Issued in Fort Worth, Texas, on June 15, 2009.
Mark R. Schilling,
Acting Manager, Rotorcraft Directorate, Aircraft Certification Service.

[FR Doc. E9-14356 Filed 6-18-09; 8:45 am]

BILLING CODE 4910-13-P